DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Apparatus for Brachytherapy

Description of Technology: Available for licensing and commercial development is a device for delivering targeted radiation brachytherapy to a portion of tissue in the cavity of a patient. The device includes an applicator with a balloon where in a deflated state is inserted into the body cavity and in an inflated state enlarges to fill the body cavity. The balloon moves from the deflated state into the inflated state upon introduction of pressurized fluid to the interior of the balloon. The apparatus also includes a catheter extending over at least a portion of the balloon for delivering treatment to the adjacent cavity (e.g., radiation or heat). A tracking device (e.g., a camera) is included in the apparatus for helping track the positioning of the balloon within the body cavity prior to inflation. The apparatus can be alternatively configured with a second balloon containing a therapeutic agent which is inflated after positioning and expansion with a first balloon first.

Applications: Brachytherapy; Radiation dosing; Cancer therapy.

Development Status: Early-stage; Pre-clinical data available; Prototype.

Inventor: Anurag K. Singh (NCI).

Patent Status: U.S. Provisional Application No. 60/811,762 filed 08 Jun 2006 (HHS Reference No. E-314-2005/0-US-01).

Licensing Status: Available for licensing non-exclusively or exclusively to qualified applicants that satisfy the criteria set forth in 37 CFR 404.7.

Licensing Contact: Michael A. Shmilovich, Esq.; 301/435-5019; shmilovm@mail.nih.gov.

Dated: April 18, 2007.
Steven M. Ferguson,
Director, Division of Technology Development and Transfer, Office of Technology Transfer, National Institutes of Health.

[FR Doc. E7-7927 Filed 4-25-07; 8:45 am]

BILLING CODE 4140-01-P